ENVIRONMENTAL PROTECTION AGENCY

[FRL OP-OFA-127]

Environmental Impact Statements; Notice of Availability

Responsible Agency: Office of Federal Activities, General Information 202-564-5632 or https://www.epa.gov/nepa.

Weekly receipt of Environmental Impact Statements (EIS)

Filed May 13, 2024 10 a.m. EST Through May 20, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240084, Revised Final, NRCS, RI, Pocasset River Flood Damage Reduction Project, Review Period Ends: 06/24/2024, Contact: R. Phou Vongkhamdy 401-822-8815.

EIS No. 20240085, Final, USAF, TX, B-21 Beddown MOB 2/MOB 3, Review Period Ends: 06/24/2024, Contact: Chris Moore 325-696-4820.

EIS No. 20240086, Final, BLM, NV, Bald Mountain Mine Plan of Operations Amendment Juniper Project, Review Period Ends: 06/28/2024, Contact: Tiera Arbogast 775-289-1803.

EIS No. 20240087, Final, USACE, FL, Lake Okeechobee System Operating Manual, Review Period Ends: 06/24/2024, Contact: Jacob Thompson 904-232-1893.

EIS No. 20240088, Final, CHSRA, CA, California High-Speed Rail Authority Palmdale to Burbank Project Section: Final Environmental Impact Report/Environmental Impact Statement, Review Period Ends: 06/24/2024, Contact: Stefan Galvez-Abadia 800-630-1039.

Dated: May 20, 2024.
Cindy S. Barger,
Director, NEPA Compliance Division, Office of Federal Activities.

[FR Doc. 2024-11462 Filed 5-23-24; 8:45 am]

BILLING CODE 6560-50-P